DEPARTMENT OF ENERGY

Federal Energy Regulatory Commission

Combined Notice of Filings #2

Take notice that the Commission received the following electric rate filings:

Docket Numbers: ER17-184-001.

Applicants: SociVolta Inc.

Description: Tariff Amendment: Amendment to 1 to be effective 1/1/2017; also filed was SociVolta Inc. tariff filing Amendment (Asset Appendix).

Filed Date: 11/17/16.

Accession Number: 20161117-5119, 20161117-5122.

Comments Due: 5 p.m. ET 12/8/16.

Docket Numbers: ER17-369-000.

Applicants: Benson Power, LLC.

Description: § 205(d) Rate Filing: Revised Market-Based Rate Tariff to be effective 1/17/2017.

Filed Date: 11/17/16.

Accession Number: 20161117-5035.

Comments Due: 5 p.m. ET 12/8/16.

Docket Numbers: ER17-370-000.

Applicants: CPV Biomass Holdings, LLC.

Description: § 205(d) Rate Filing: Revised Market-Based Rate Tariff to be effective 1/17/2017.

Filed Date: 11/17/16.

Accession Number: 20161117-5037.

Comments Due: 5 p.m. ET 12/8/16.

Docket Numbers: ER17-371-000.

Applicants: CPV Keenan II Renewable Energy Company.

Description: § 205(d) Rate Filing: Revised Market-Based Rate Tariff to be effective 1/17/2017.

Filed Date: 11/17/16.

Accession Number: 20161117-5039.

Comments Due: 5 p.m. ET 12/8/16.

Docket Numbers: ER17-372-000.

Applicants: CPV Maryland, LLC.

Description: § 205(d) Rate Filing: Revised Market-Based Rate Tariff to be effective 1/17/2017.

Filed Date: 11/17/16.

Accession Number: 20161117-5042.

Comments Due: 5 p.m. ET 12/8/16.

Docket Numbers: ER17-373-000.

Applicants: CPV Shore, LLC.

Description: § 205(d) Rate Filing: Revised Market-Based Rate Tariff to be effective 1/17/2017.

Filed Date: 11/17/16.

Accession Number: 20161117-5043.

Comments Due: 5 p.m. ET 12/8/16.

Docket Numbers: ER17-374-000.

Applicants: CPV Towantic, LLC.

Description: § 205(d) Rate Filing: Revised Market-Based Rate Tariff to be effective 1/17/2017.

Filed Date: 11/17/16.

Accession Number: 20161117-5044.

Comments Due: 5 p.m. ET 12/8/16.

Docket Numbers: ER17-375-000.

Applicants: CPV Valley, LLC.

Description: § 205(d) Rate Filing: Revised Market-Based Rate Tariff to be effective 1/17/2017.

Filed Date: 11/17/16.

Accession Number: 20161117-5045.

Comments Due: 5 p.m. ET 12/8/16.

Docket Numbers: ER17-376-000.

Applicants: Public Service Company of New Hampshire.

Description: Tariff Cancellation: Cancellation of PSNH Rate Schedule No. IA-PSNH-08 Springfield Power, LLC to be effective 10/25/2016.

Filed Date: 11/17/16.

Accession Number: 20161117-5051.

Comments Due: 5 p.m. ET 12/8/16.

Docket Numbers: ER17-377-000.

Applicants: NorthWestern Corporation.

Description: Tariff Cancellation: Notice of Cancellation and Termination—Service Agreements to be effective 11/18/2016.

Filed Date: 11/17/16.

Accession Number: 20161117-5052.

Comments Due: 5 p.m. ET 12/8/16.

Docket Numbers: ER17-378-000.

Applicants: NorthWestern Corporation.

Description: § 205(d) Rate Filing: SA 794—Agreement with Phillips County re Malta Bridge Project to be effective 11/18/2016.

Filed Date: 11/17/16.

Accession Number: 20161117-5072.

Comments Due: 5 p.m. ET 12/8/16.

Docket Numbers: ER17-379-000.

Applicants: PacifiCorp.

Description: § 205(d) Rate Filing: BPA NITSA (CEC Load) Rev 1 to be effective 11/30/2016.

Filed Date: 11/17/16.

Accession Number: 20161117-5103.

Comments Due: 5 p.m. ET 12/8/16.

Docket Numbers: ER17-380-000.

Applicants: Stored Solar J&WE, LLC.

Description: Baseline eTariff Filing: Baseline new to be effective 12/1/2016.

Filed Date: 11/17/16.

Accession Number: 20161117-5120.

Comments Due: 5 p.m. ET 12/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

DATED: November 17, 2016.
Nathaniel J. Davis, Sr.,
Deputy Secretary.

[FR Doc. 2016-28191 Filed 11-22-16; 8:45 am]

BILLING CODE 6717-01-P